DEPARTMENT OF THE TREASURY

Submission for OMB Review; Comment Request

August 24, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before September 27, 2010 to be assured of consideration.

Internal Revenue Service (IRS)

OMB Number: 1545-0823.

Type of Review: Extension without change to a currently approved collection.

Title: FI-221-83 (NPRM) FI-100-83 (Temporary Regulations) Indian Tribal Governments Treated as States For Certain Purposes.

Abstract: These regulations relate to the treatment of Indian tribal governments as States for certain Federal tax purposes. The regulations provide that if the governing body of a tribe, or its subdivision, is not designated as an Indian tribal government or subdivision thereof for purpose of sections 7701(a)(40) and 7871, it may apply for a ruling from the IRS.

Respondents: State, Local, and Tribal Governments.

Estimated Total Burden Hours: 25 hours.

OMB Number: 1545-1013.

Type of Review: Extension without change to a currently approved collection.

Title: Return of Excise Tax on Undistributed Income of Real Estate Investment Trusts.

Form: 8612.

Abstract: Form 8612 is used by real estate investment trusts to compute and pay the excise tax on undistributed income imposed under section 4981. IRS uses the information to verify that the correct amount of tax has been reported.

Respondents: Private Sector: Businesses or other for-profits.

Estimated Total Burden Hours: 196 hours.

OMB Number: 1545-1710.

Type of Review: Revision of a currently approved collection.

Title: Revenue Procedure 2005-60, Form 940 e-file Program.

Abstract: Revenue Procedure 2005-60 (supersedes 2001-9) provides guidance and the requirements for participating in the form 940 e-file program.

Respondents: Private Sector: Businesses or other for-profits.

Estimated Total Burden Hours: 717,338 hours.

OMB Number: 1545-1878.

Type of Review: Revision of a currently approved collection.

Title: IRS e-file Signature Authorization for an Exempt Organization.

Form: 8879-EO.

Abstract: Form 8879-EO authorizes an officer of an exempt organization and electronic return originator (ERO) to use a personal identification number (PIN) to electronically sign an organization's electronic income tax return and, if applicable, Electronic Funds Withdrawal Consent.

Respondents: Private Sector: Not-for-profit institutions.

Estimated Total Burden Hours: 425,714 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-21353 Filed 8-26-10; 8:45 am]

BILLING CODE 4830-01-P